DEPARTMENT OF EDUCATION

[CFDA No. 84.334]

Office of Postsecondary Education, Gaining Early Awareness and Readiness for Undergraduate Programs

Notice Inviting Applications for New Awards for Fiscal Year 2000; Correction

SUMMARY: On April 27, 2000 we published in the Federal Register (65 FR 24764) a notice inviting applications for new awards for fiscal year 2000 for the Gaining Early Awareness and Readiness for Undergraduate Program (GEAR UP). That document incorrectly listed the priority for Partnerships that establish or maintain a scholarship program as invitational. Please note that Partnerships that establish or maintain a scholarship program will receive a competitive priority, as was stated in the application package for this year's competition.

The priority therefore reads as follows:

Competitive Preference Priority

The Secretary will give preference to Partnership projects that establish or maintain financial assistance programs that award scholarships to participating students, either in accordance with section 404E of the Higher Education Act of 1965, as amended, or in accordance with GEAR UP regulations. The Secretary will award up to five (5) additional points, in addition to any points the applicant earns under the selection criteria, to applicants who meet this priority, depending on how well the application meets the priority.

Also in that same Notice we stated that applications for a Partnership or State grant that serve students in Empowerment Zones, Supplemental Empowerment Zones, or Enterprise Communities would be given a Competitive Preference Priority. The language used to explain this priority (The Secretary will select an application that meets this priority over an application of comparable merit that does not meet this priority) comes directly from the Education Department General Regulations (EDGAR) 34 CFR Part 75.105. This notice clarifies that this preference will be applied as a tie-breaker only.

Finally, that notice incorrectly listed the maximum grant amount for State grants as $5 million. The correct maximum grant amount for State grants is $2.1 million.

FOR FURTHER INFORMATION CONTACT: Rafael Ramirez, Office of Postsecondary Education, U.S. Department of Education, 1900 K Street, NW, Room 6252, Washington, DC 20006. Telephone: (202) 502-7676. If you use a telecommunications device for the deaf (TDD), you may call the Federal Information Relay Service (FIRS) at 1-800-877-8339.

Individuals with disabilities may obtain this document in an alternative format (e.g., Braille, large print, audiotape, or computer diskette) on request to the contact person listed in the preceding paragraph.

Electronic Access to This Document

You may view this document in text or Adobe Portable Document Format (PDF) on the Internet at the following sites:

http://ocfo.ed.gov/fedreg.htm

http://www.ed.gov/news.html

http://ifap.ed.gov/csb_html/fedlreg.htm

To use the PDF you must have the Adobe Acrobat Reader Program, which is available free at the first of the previous sites. If you have questions about using the PDF, call the U.S. Government Printing Office (GPO), toll free, at 1-888-293-6498; or in the Washington, D.C. area at (202) 512-1530.

Note: The official version of this document is the document published in the Federal Register. Free Internet access to the official edition of the Federal Register and the Code of Federal Regulations is available on GPO Access at:

http://www.access.gpo.gov/nara/index.html

(Catalog of Federal Domestic Assistance Number: 84.334 Gaining Early Awareness and Readiness for Undergraduate Program)
Dated: May 15, 2000.
A. Lee Fritschler,
Assistant Secretary, Office of Postsecondary Education.

[FR Doc. 00-12525 Filed 5-17-00; 8:45 am]

BILLING CODE 4000-01-U